NUCLEAR REGULATORY COMMISSION

10 CFR Chapter I

[NRC-2020-0125]

RIN 3150-AK48

Miscellaneous Corrections

AGENCY: Nuclear Regulatory Commission.

ACTION: Final rule.

SUMMARY: The U.S. Nuclear Regulatory Commission (NRC) is amending its regulations to make miscellaneous corrections. These changes include redesignating footnotes, correcting references, typographical errors, nomenclature, titles, email addresses, and contact information. This document is necessary to inform the public of these non-substantive amendments to the NRC's regulations.

DATES: This final rule is effective on November 16, 2020.

ADDRESSES: Please refer to Docket ID NRC-2020-0125 when contacting the NRC about the availability of information for this action. You may obtain publicly-available information related to this action by any of the following methods:

• Federal Rulemaking Website: Go to https://www.regulations.gov and search for Docket ID NRC-2020-0125. Address questions about NRC dockets to Carol Gallagher; telephone: 301-415-3463; email: Carol.Gallagher@nrc.gov.

• NRC's Agencywide Documents Access and Management System (ADAMS): You may obtain publicly-available documents online in the ADAMS Public Documents Collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• Attention: The Public Document Room (PDR), where you may examine and order copies of public documents is currently closed. You may submit your request to the PDR via email at PDR.Resource@nrc.gov or call 1-800-397-4209 between 8:00 a.m. and 4:00 p.m. (EST), Monday through Friday, except Federal holidays.

FOR FURTHER INFORMATION CONTACT: Jill Shepherd, Office of Nuclear Material Safety and Safeguards, U.S. Nuclear Regulatory Commission, Washington, DC 20555-0001; telephone: 301-415-1230, email: Jill.Shepherd@nrc.gov.

SUPPLEMENTARY INFORMATION:

I. Introduction

The NRC is amending its regulations in parts 1, 2, 19, 20, 21, 30, 34, 35, 40, 50, 51, 52, 60, 61, 62, 63, 70, 71, 72, 73, 74, 75, 76, 110, and 140 of title 10 of the Code of Federal Regulations (10 CFR) to redesignate footnotes, correct references, typographical errors, nomenclature, titles, email addresses, redesignate footnotes, and contact information.

II. Summary of Changes

10 CFR part 1

Correct Nomenclature. This final rule amends § 1.15 to clarify that Atomic Safety and Licensing Boards are designated by either the Commission or the Chief Administrative Judge.

10 CFR part 2

Correct Email Address. This final rule corrects the email address for the E-Filing system in § 2.305(e)(4)(i).

Correct Title and Email Address. This final rule corrects the title for the Associate General Counsel for Hearings and the email address for service on the NRC staff in § 2.305(g)(1).

10 CFR parts 19, 34, 40, 62, 63, 74, 75, 110, and 140

Correct Reference. This final rule amends §§ 19.8(b), 34.8(b), 40.8(b), 62.8(b), 63.8(b), 74.8(b), 75.9(b), 110.7(b), and 140.9a(b) to add to the OMB information collections sections in each of these parts.

10 CFR parts 20, 21, 30, 40, 50, 70, 72, 73, and 76

Correct Division Title and Email Address. This final rule corrects the division title and email address in the first table entry in appendix D to 10 CFR part 20.

Correct Cross Reference and Title. This final rule revises §§ 20.1906(d), 20.2201(a)(2)(ii), 20.2202(d)(2), 21.2(d), 30.50(c)(1), 40.60(c)(1), 40.67(c) and (d), 50.72(a)(2), 70.50(c)(1), 70.52(a), 72.74(a), 72.75(e)(1), 73.67(e)(3)(vii) and (g)(3)(iii), 73.71(a)(1) and (b)(1), 75.6(c) and (e), and 76.120(a) to correct the title to read “NRC Headquarters Operations Center” (the HOC) and to refer all licensees to the HOC's contact information in appendix A to 10 CFR part 73.

10 CFR part 35

Correct Nomenclature. This final rule revises §§ 35.390(a)(1), 35.490(a)(1) and (b)(2), and 35.690(a)(1) and (b)(2) to correct the name from “Committee” to “Council” and “Post-Graduate” to “Postdoctoral.”

10 CFR part 40, 50, 60, 61, 63, 70, 72, 75, and 76

Correct Reference. This final rule amends §§ 40.8(c)(3), 40.31(g)(1), 50.8(c)(2), 50.78(a), 60.8(c), 60.47(a), 61.8(c), 61.32(a), 63.8(c), 63.47(a), 70.8(c)(1), 70.21(g)(1), 72.9(c), 72.79(a), 75.6(c), 75.9(c)(1), 75.10(d), and 76.35(l)(1) to revise all references to the International Atomic Energy Agency's Questionnaire Form N-71 wherever it appears from “Form N-71 and associated forms” to “IAEA Design Information Questionnaire forms.”

10 CFR part 50

Correct Reference. This final rule amends § 50.55a(b)(2)(ix) to correct the references to paragraph (b)(2)(ix)(A)(2) by italicizing the second “2”.

Correct Typographical Errors. This final rule amends § 50.55a(b)(1)(x)(B), (b)(2)(xxxviii) introductory text, and (b)(2)(xxxviii)(A) and (B) to italicize the paragraph headings.

This final rule also amends § 50.55a(b)(2)(ix)(K) to correct “Table IWE 2411-1” to read “Table IWE-2411-1” and “IWE 2430” to read “IWE-2430”, and § 50.55a(b)(2)(xxxix)(A) to correct “IWA 4421(c)(1)” to read “IWA-4421(c)(1)”.

Finally, this final rule amends § 50.55a(b)(3)(iv) introductory text to correct an inadvertent error that resulted from the removal of text.

This final rule revises paragraph III.L.1 of appendix R to 10 CFR part 50 to correct a typographical error.

10 CFR Parts 50, 72, 73, and 76

Redesignate footnotes. This final rule redesignates footnotes 4 and 5 as footnotes 3 and 4 in § 50.72(a)(2); footnotes 10 and 11 as footnotes 1 and 2 in § 72.32; footnote 4 as footnote 1 in § 73.72; footnote 2 as footnote 1 in § 76.111; and footnote 4 as footnote 1 in § 76.120(b).

10 CFR Part 51

Correct Typographical Error. This final rule revises § 51.22(c)(14)(xvi) to remove a reference.

10 CFR Part 52

Correct Cross Reference. This final rule corrects the cross reference in §§ 52.29(c), 52.39(a)(1), and 52.303(b) to reference § 52.26 instead of § 52.27.

10 CFR Part 71

Correct Outdated Reference. This final rule removes and reserves § 71.97(c)(3)(i) because the information on governors' designees is now out of date and paragraph (c)(3)(ii) provides the reference to the correct and current contact information.

Correct Typographical Error. This final rule revises the specific activity (TBq/g) entry for Sm-147 in Table A-1-A1 and A2 Values for Radionuclides in appendix A to 10 CFR part 71 to read “8.5 x 10⁻¹⁰.”

10 CFR Part 73

Correct Reference. This final rule corrects the reference in § 73.57(b)(2)(iii) to read “Executive Order 13767, as amended by Executive Order 13764,” which replaced Executive Order 10450.

Correct Division Title and Mail Stop. This final rule corrects the division title and mail stop in § 73.57(d)(1) to read “Division of Physical and Cyber Security Policy” and “T-8B20.”

10 CFR Part 110

Correct Contact Information. This final rule revises § 110.50(c)(2) to correct the phone number for the Office of International Programs to 301-287-9096 and to refer all licensees to the HOC's contact information in appendix A to 10 CFR part 73.

III. Rulemaking Procedure

Under section 553(b) of the Administrative Procedure Act (5 U.S.C.553(b)), an agency may waive publication in the Federal Register of a notice of proposed rulemaking and opportunity for comment requirements if it finds, for good cause, that it is impracticable, unnecessary, or contrary to the public interest. As authorized by 5 U.S.C. 553(b)(3)(B), the NRC finds good cause to waive notice and opportunity for comment on these amendments, because notice and opportunity for comment is unnecessary. The amendments will have no substantive impact and are of a minor and administrative nature dealing with corrections to certain CFR sections or are related only to management, organization, procedure, and practice. Specifically, the revisions correct references, typographical errors, nomenclature, titles, email addresses, footnote designation, and contact information. The Commission is exercising its authority under 5 U.S.C.553(b) to publish these amendments as a final rule. The amendments are effective November 16, 2020. These amendments do not require action by any person or entity regulated by the NRC, and do not change the substantive responsibilities of any person or entity regulated by the NRC.

IV. Environmental Impact: Categorical Exclusion

The NRC has determined that this final rule is the type of action described in 10 CFR 51.22(c)(2), which categorically excludes from environmental review rules that are corrective or of a minor, nonpolicy nature and do not substantially modify existing regulations. Therefore, neither an environmental impact statement nor an environmental assessment has been prepared for this rule.

V. Paperwork Reduction Act

This final rule does not contain a collection of information as defined in the Paperwork Reduction Act of 1995 (44 U.S.C. 3501 et seq.) and, therefore, is not subject to the requirements of the Paperwork Reduction Act of 1995.

Public Protection Notification

The NRC may not conduct or sponsor, and a person is not required to respond to, a collection of information unless the document requesting or requiring the collection displays a currently valid OMB control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the corrections in this final rule do not constitute backfitting and are not inconsistent with any of the issue finality provisions in 10 CFR part 52. The amendments are non-substantive in nature, including correcting references, correcting an address, and correcting a misspelling. They impose no new requirements and make no substantive changes to the regulations. The corrections do not involve any provisions that would impose backfits as defined in 10 CFR chapter I, or that would be inconsistent with the issue finality provisions in 10 CFR part 52. For these reasons, the issuance of the rule in final form would not constitute backfitting or represent a violation of any of the issue finality provisions in 10 CFR part 52. Therefore, the NRC has not prepared any additional documentation for this correction rulemaking addressing backfitting or issue finality.

VIII. Congressional Review Act

This final rule is not a rule as defined in the Congressional Review Act (5 U.S.C. 801-808).

IX. Agreement State Compatibility

Under the “Agreement State Program Policy Statement” approved by the Commission on October 2, 2017, and published in the Federal Register on October 18, 2017 (82 FR 48535), NRC program elements (including regulations) are placed into compatibility categories A, B, C, D, NRC, or adequacy category Health and Safety (H&S). Compatibility Category A program elements are those program elements that are basic radiation protection standards and scientific terms and definitions that are necessary to understand radiation protection concepts. An Agreement State should adopt Category A program elements in an essentially identical manner in order to provide uniformity in the regulation of agreement material on a nationwide basis. Compatibility Category B program elements are those program elements that apply to activities that have direct and significant effects in multiple jurisdictions. An Agreement State should adopt Category B program elements in an essentially identical manner. Compatibility Category C program elements are those program elements that do not meet the criteria of Category A or B, but contain the essential objectives that an Agreement State should adopt to avoid conflict, duplication, gaps, or other conditions that would jeopardize an orderly pattern in the regulation of agreement material on a national basis. An Agreement State should adopt the essential objectives of the Category C program elements. Compatibility Category D program elements are those program elements that do not meet any of the criteria of Category A, B, or C and, therefore, do not need to be adopted by Agreement States for purposes of compatibility. Compatibility Category NRC program elements are those program elements that address areas of regulation that cannot be relinquished to the Agreement States under the Atomic Energy Act of 1954, as amended, or provisions of 10 CFR. These program elements should not be adopted by the Agreement States. Adequacy category H&S program elements are program elements that are required because of a particular health and safety role in the regulation of agreement material within the State and should be adopted in a manner that embodies the essential objectives of the NRC program.

The portions of this final rule that amend 10 CFR parts 19, 20, 30, 34, 35, 40, 61, 70, and 71 are a matter of compatibility between the NRC and the Agreement States, thereby providing consistency among Agreement State and NRC requirements. The compatibility categories are designated in the following table.

Compatibility Table
Section | Change | Subject | Compatibility: Existing | Compatibility: New
Part 19
§ 19.8(b) | Amend | Information collection requirements: OMB approval | D | D
Part 20
§ 20.1906(d) | Amend | Access authorization program requirements | H&S | H&S
§ 20.2201(a)(2)(ii) | Amend | Requirements for criminal history records checks of individuals granted unescorted access to category 1 or category 2 quantities of radioactive material | C | C
§ 20.2202(d)(2) | Amend | Notification of incidents | C | C
Part 30
§ 30.50(c)(1) | Amend | Reporting requirements | C | C
Part 34
§ 34.8(b) | Amend | Information collection requirements: OMB approval | D | D
Part 35
§ 35.390(a)(1) | Amend | Training for use of unsealed byproduct material for which a written directive is required | B | B
§ 35.490(a)(1) | Amend | Training for use of manual brachytherapy sources | B | B
§ 35.690(a)(1) | Amend | Training for use of remote afterloader units, teletherapy units, and gamma stereotactic radiosurgery units | B | B
Part 40
§ 40.8(b) | Amend | Information collection requirements: OMB approval | D | D
§ 40.31(g)(1) | Amend | Application for specific licenses | D | D
Part 61
§ 61.8(a) | Amend | Information collection requirements: OMB approval | D | D
Part 70
§ 70.8(c)(1) | Amend | Information collection requirements: OMB approval | D | D
§ 70.21(g)(1) | Amend | Filing | NRC | NRC
§ 70.50(c)(1) | Amend | Reporting requirements | C | C
§ 70.52(a) | Amend | Reports of accidental criticality | NRC | NRC
Part 71
§ 71.97(c)(3)(i) | Amend | Advance notification of shipment of irradiated reactor fuel and nuclear waste | B | B

List of Subjects

10 CFR Part 1

Flags, Organization and functions (Government Agencies), Seals and insignia.

10 CFR Part 2

Administrative practice and procedure, Antitrust, Byproduct material, Classified information, Confidential business information; Freedom of information, Environmental protection, Hazardous waste, Nuclear energy, Nuclear materials, Nuclear power plants and reactors, Penalties, Reporting and recordkeeping requirements, Sex discrimination, Source material, Special nuclear material, Waste treatment and disposal.

10 CFR Part 19

Criminal penalties, Environmental protection, Nuclear Energy, Nuclear materials, Nuclear power plants and reactors, Occupational safety and health, Penalties, Radiation protection, Reporting and recordkeeping requirements, Sex discrimination.

10 CFR Part 20

Byproduct material, Criminal penalties, Hazardous waste, Licensed material, Nuclear energy, Nuclear materials, Nuclear power plants and reactors, Occupational safety and health, Packaging and containers, Penalties, Radiation protection, Reporting and recordkeeping requirements, Source material, Special nuclear material, Waste treatment and disposal.

10 CFR Part 21

Nuclear power plants and reactors, Penalties, Radiation protection, Reporting and recordkeeping requirements.

10 CFR Part 30

Byproduct material, Criminal penalties, Government contracts, Intergovernmental relations, Isotopes, Nuclear energy, Nuclear materials, Penalties, Radiation protection, Reporting and recordkeeping requirements, Whistleblowing.

10 CFR Part 34

Criminal penalties, Incorporation by reference, Manpower training programs, Occupational safety and health, Packaging and containers, Penalties, Radiation protection, Radiography, Reporting and recordkeeping requirements, Scientific equipment, Security measures, X-rays.

10 CFR Part 35

Biologics, Byproduct material, Criminal penalties, Drugs, Health facilities, Health professions, Labeling, Medical devices, Nuclear energy, Nuclear materials, Occupational safety and health, Penalties, Radiation protection, Reporting and recordkeeping requirements.

10 CFR Part 40

Criminal penalties, Exports, Government contracts, Hazardous materials transportation, Hazardous waste, Nuclear energy, Nuclear materials, Penalties, Reporting and recordkeeping requirements, Source material, Uranium, Whistleblowing.

10 CFR Part 50

Administrative practice and procedure, Antitrust, Backfitting, Classified information, Criminal penalties, Education, Emergency planning, Fire prevention, Fire protection, Incorporation by reference, Intergovernmental relations, Nuclear power plants and reactors, Penalties, Radiation protection, Reactor siting criteria, Reporting and recordkeeping requirements, Whistleblowing.

10 CFR Part 51

Administrative practice and procedure, Environmental impact statements, Hazardous waste, Nuclear energy, Nuclear materials, Nuclear power plants and reactors, Reporting and recordkeeping requirements.

10 CFR Part 52

Administrative practice and procedure, Antitrust, Combined license, Early site permit, Emergency planning, Fees, Incorporation by reference, Inspection, Issue finality, Limited work authorization, Nuclear power plants and reactors, Probabilistic risk assessment, Prototype, Reactor siting criteria, Redress of site, Penalties, Reporting and recordkeeping requirements, Standard design, Standard design certification.

10 CFR Part 60

Criminal penalties, Hazardous waste, Indians, High-level waste, Intergovernmental relations, Nuclear energy, Nuclear materials, Nuclear power plants and reactors, Penalties, Radiation protection, Reporting and recordkeeping requirements, Waste treatment and disposal, Whistleblowing.

10 CFR Part 61

Criminal penalties, Hazardous waste, Indians, Intergovernmental relations, Low-level waste, Nuclear energy, Nuclear materials, Penalties, Reporting and recordkeeping requirements, Waste treatment and disposal, Whistleblowing.

10 CFR Part 62

Administrative practice and procedure, Denial of access, Emergency access to low-level waste disposal, Hazardous waste, Intergovernmental relations, Low-level radioactive waste, Low-level radioactive waste treatment and disposal, Nuclear energy, Nuclear materials, Radiation protection, Reporting and recordkeeping requirements.

10 CFR Part 63

Criminal penalties, Hazardous waste, High-level waste, Indians, Intergovernmental relations, Nuclear energy, Nuclear power plants and reactors, Penalties, Radiation protection, Reporting and recordkeeping requirements, Waste treatment and disposal.

10 CFR Part 70

Classified information, Criminal penalties, Emergency medical services, Hazardous materials transportation, Material control and accounting, Nuclear energy, Nuclear materials, Packaging and containers, Penalties, Radiation protection, Reporting and recordkeeping requirements, Scientific equipment, Security measures, Special nuclear material, Whistleblowing.

10 CFR Part 71

Criminal penalties, Hazardous materials transportation, Incorporation by reference, Intergovernmental relations, Nuclear materials, Packaging and containers, Penalties, Radioactive materials, Reporting and recordkeeping requirements.

10 CFR Part 72

Administrative practice and procedure, Hazardous waste, Indians, Intergovernmental relations, Nuclear energy, Penalties, Radiation protection, Reporting and recordkeeping requirements, Security measures, Spent fuel, Whistleblowing.

10 CFR Part 73

Criminal penalties, Exports, Hazardous materials transportation, Incorporation by reference, Imports, Nuclear energy, Nuclear materials, Nuclear power plants and reactors, Penalties, Reporting and recordkeeping requirements, Security measures.

10 CFR Part 74

Accounting, Criminal penalties, Hazardous materials transportation, Material control and accounting, Nuclear energy, Nuclear materials, Packaging and containers, Penalties, Radiation protection, Reporting and recordkeeping requirements, Scientific equipment, Special nuclear material.

10 CFR Part 75

Criminal penalties, Intergovernmental relations, Nuclear energy, Nuclear materials, Nuclear power plants and reactors, Penalties, Reporting and recordkeeping requirements, Security measures, Treaties.

10 CFR Part 76

Certification, Criminal penalties, Nuclear energy, Penalties, Radiation protection, Reporting and record keeping requirements, Security measures, Special nuclear material, Uranium, Uranium enrichment by gaseous diffusion.

10 CFR Part 110

Administrative practice and procedure, Classified information, Criminal penalties, Exports, Incorporation by reference, Imports, Intergovernmental relations, Nuclear energy, Nuclear materials, Nuclear power plants and reactors, Penalties, Reporting and recordkeeping requirements, Scientific equipment.

10 CFR Part 140

Criminal penalties, Extraordinary nuclear occurrence, Insurance, Intergovernmental relations, Nuclear materials, Nuclear power plants and reactors, Penalties, Reporting and recordkeeping requirements.

For the reasons set out in the preamble and under the authority of the Atomic Energy Act of 1954, as amended; the Energy Reorganization Act of 1974, as amended; and 5 U.S.C. 552 and 553, the NRC is amending 10 CFR chapter I to read as follows:

PART 1—STATEMENT OF ORGANIZATION AND GENERAL INFORMATION

1. The authority citation for part 1 continues to read as follows:

Authority: Atomic Energy Act of 1954, secs. 23, 25, 29, 161, 191 (42 U.S.C. 2033, 2035, 2039, 2201, 2241); Energy Reorganization Act of 1974, secs. 201, 203, 204, 205, 209 (42 U.S.C. 5841, 5843, 5844, 5845, 5849); Administrative Procedure Act (5 U.S.C. 552, 553); Reorganization Plan No. 1 of 1980, 5 U.S.C. Appendix (Reorganization Plans).

§ 1.15 [Amended]

2. In § 1.15, remove the word “appointed” and add in its place the word “designated”.

PART 2—AGENCY RULES OF PRACTICE AND PROCEDURE

3. The authority citation for part 2 continues to read as follows:

Authority: Atomic Energy Act of 1954, secs. 29, 53, 62, 63, 81, 102, 103, 104, 105, 161, 181, 182, 183, 184, 186, 189, 191, 234 (42 U.S.C. 2039, 2073, 2092, 2093, 2111, 2132, 2133, 2134, 2135, 2201, 2231, 2232, 2233, 2234, 2236, 2239, 2241, 2282); Energy Reorganization Act of 1974, secs. 201, 206 (42 U.S.C. 5841, 5846); Nuclear Waste Policy Act of 1982, secs. 114(f), 134, 135, 141 (42 U.S.C. 10134(f), 10154, 10155, 10161); Administrative Procedure Act (5 U.S.C. 552, 553, 554, 557, 558); National Environmental Policy Act of 1969 (42 U.S.C. 4332); 44 U.S.C. 3504 note.

Section 2.205(j) also issued under 28 U.S.C. 2461 note.

Section 2.205(j) also issued under Sec. 31001(s), Pub. L. 104-134, 110 Stat. 1321-373 (28 U.S.C. 2461 note).

§ 2.305 [Amended]

4. In § 2.305, in paragraph (e)(4)(i), remove the Web address “http://www.nrc.gov” and add in its place “https://www.nrc.gov/site-help/e-submittals.html” and in paragraph (g)(1), wherever it appears, remove “the Associate General Counsel for Hearings, Enforcement & Administration” and add in its place “Deputy General Counsel” and remove “OgcMailCenter.Resource@nrc.gov” and add in its place “RidsOgcMailCenter.Resource@nrc.gov”.

PART 19—NOTICES, INSTRUCTIONS AND REPORTS TO WORKERS: INSPECTION AND INVESTIGATIONS

5. The authority citation for part 19 continues to read as follows:

Authority: Atomic Energy Act of 1954, secs. 53, 63, 81, 103, 104, 161, 223, 234, 1701 (42 U.S.C. 2073, 2093, 2111, 2133, 2134, 2201, 2273, 2282, 2297f); Energy Reorganization Act of 1974, secs. 201, 211, 401 (42 U.S.C. 5841, 5851, 5891); 44 U.S.C. 3504 note.

6. In § 19.8, revise paragraph (b) to read as follows:

§ 19.8 Information collection requirements: OMB approval.

* * * * *

(b) The approved information collection requirements contained in this part appear in §§ 19.12, 19.13, 19.16, and 19.31.

PART 20—STANDARDS FOR PROTECTION AGAINST RADIATION

7. The authority citation for part 20 continues to read as follows:

Authority: Atomic Energy Act of 1954, secs. 11, 53, 63, 65, 81, 103, 104, 161, 170H, 182, 186, 223, 234, 274, 1701 (42 U.S.C. 2014, 2073, 2093, 2095, 2111, 2133, 2134, 2201, 2210h, 2232, 2236, 2273, 2282, 2021, 2297f); Energy Reorganization Act of 1974, secs. 201, 202 (42 U.S.C. 5841, 5842); Low-Level Radioactive Waste Policy Amendments Act of 1985, sec. 2 (42 U.S.C. 2021b); 44 U.S.C. 3504 note.

8. In § 20.1906, revise paragraph (d) to read as follows:

§ 20.1906 Procedures for receiving and opening packages.

* * * * *

(d) The licensee shall immediately notify the final delivery carrier and the NRC Headquarters Operations Center by telephone at the numbers specified in appendix A to part 73 of this chapter, when—

* * * * *

9. In § 20.2201, revise paragraph (a)(2)(ii) to read as follows:

§ 20.2201 Reports of theft or loss of licensed material.

(a) * * *

(2) * * *

(ii) All other licensees shall make reports by telephone to the NRC Headquarters Operations Center at the numbers specified in appendix A to part 73 of this chapter.

* * * * *

10. In § 20.2202, revise paragraph (d)(2) to read as follows:

§ 20.2202 Notification of incidents.

* * * * *

(d) * * *

(2) All other licensees shall make the reports required by paragraphs (a) and (b) of this section by telephone to the NRC Headquarters Operations Center at the numbers specified in appendix A to part 73 of this chapter.

* * * * *

Appendix D to Part 20 [Amended]

11. In the first row of the table in appendix D to part 20, remove the title “Division of Incident Response Operations” and add in its place “Division of Preparedness and Response” and remove the email “H001@nrc.gov” and add in its place “Hoo.Hoc@nrc.gov”.

PART 21—REPORTING OF DEFECTS AND NONCOMPLIANCE

12. The authority citation for part 21 continues to read as follows:

Authority: Atomic Energy Act of 1954, secs. 53, 63, 81, 103, 104, 161, 223, 234, 1701 (42 U.S.C. 2073, 2093, 2111, 2133, 2134, 2201, 2273, 2282, 2297f); Energy Reorganization Act of 1974, secs. 201, 206 (42 U.S.C. 5841, 5846); Nuclear Waste Policy Act of 1982, secs. 135, 141 (42 U.S.C. 10155, 10161); 44 U.S.C. 3504 note.

13. In § 21.2, revise the last sentence of paragraph (d) to read as follows:

§ 21.2 Scope.

* * * * *

(d) * * * The telephone numbers of the NRC Headquarters Operations Center (answered 24 hours a day—including holidays) are listed in appendix A to part 73 of this chapter.

* * * * *

PART 30—RULES OF GENERAL APPLICABILITY TO DOMESTIC LICENSING OF BYPRODUCT MATERIAL

14. The authority citation for part 30 continues to read as follows:

Authority: Atomic Energy Act of 1954, secs. 11, 81, 161, 181, 182, 183, 184, 186, 187, 223, 234, 274 (42 U.S.C. 2014, 2111, 2201, 2231, 2232, 2233, 2234, 2236, 2237, 2273, 2282, 2021); Energy Reorganization Act of 1974, secs. 201, 202, 206, 211 (42 U.S.C. 5841, 5842, 5846, 5851); 44 U.S.C. 3504 note.

15. In § 30.50, revise the first sentence of paragraph (c)(1) introductory text to read as follows:

§ 30.50 Reporting requirements.

* * * * *

(c) * * *

(1) Licensees shall make reports required by paragraphs (a) and (b) of this section by telephone to the NRC Headquarters Operations Center at the numbers specified in appendix A to part 73 of this chapter. * * *

* * * * *

PART 34—LICENSES FOR INDUSTRIAL RADIOGRAPHY AND RADIATION SAFETY REQUIREMENTS FOR INDUSTRIAL RADIOGRAPHIC OPERATIONS

16. The authority citation for part 34 continues to read as follows:

Authority: Atomic Energy Act of 1954, secs. 81, 161, 181, 182, 183, 223, 234, 274 (42 U.S.C. 2111, 2201, 2231, 2232, 2233, 2273, 2282, 2021); Energy Reorganization Act of 1974, secs. 201, 206 (42 U.S.C. 5841, 5846); 44 U.S.C. 3504 note.

§ 34.8 [Amended]

17. In § 34.8(b), add “34.111,” in numerical order.

PART 35—MEDICAL USE OF BYPRODUCT MATERIAL

18. The authority citation for part 35 continues to read as follows:

Authority: Atomic Energy Act of 1954, secs. 81, 161, 181, 182, 183, 223, 234, 274 (42 U.S.C. 2111, 2201, 2231, 2232, 2233, 2273, 2282, 2021); Energy Reorganization Act of 1974, secs. 201, 206 (42 U.S.C. 5841, 5846); 44 U.S.C. 3504 note.

§ 35.390 [Amended]

19. In § 35.390(a)(1), remove “Committee on Post-Graduate Training” and add in its place “Council on Postdoctoral Training”.

§ 35.490 [Amended]

20. In § 35.490, in paragraph (a)(1), remove “Committee on Post-Graduate Training” and add in its place “Council on Postdoctoral Training” and in paragraph (b)(2), remove “Committee on Postdoctoral” and add in its place “Council on Postdoctoral”.

§ 35.690 [Amended]

21. In § 35.690, in paragraph (a)(1), remove “Committee on Post-Graduate Training” and add in its place “Council on Postdoctoral Training” and in paragraph (b)(2), remove “Committee on Postdoctoral” and add in its place “Council on Postdoctoral”.

PART 40—DOMESTIC LICENSING OF SOURCE MATERIAL

22. The authority citation for part 40 continues to read as follows:

Authority: Atomic Energy Act of 1954, secs. 62, 63, 64, 65, 69, 81, 83, 84, 122, 161, 181, 182, 183, 184, 186, 187, 193, 223, 234, 274, 275 (42 U.S.C. 2092, 2093, 2094, 2095, 2099, 2111, 2113, 2114, 2152, 2201, 2231, 2232, 2233, 2234, 2236, 2237, 2243, 2273, 2282, 2021, 2022); Energy Reorganization Act of 1974, secs. 201, 202, 206, 211 (42 U.S.C. 5841, 5842, 5846, 5851); Uranium Mill Tailings Radiation Control Act of 1978, sec. 104 (42 U.S.C. 7914); 44 U.S.C. 3504 note.

§ 40.8 [Amended]

23. In § 40.8, in paragraph (b) add “40.14,” in numerical order, and in paragraph (c)(3) remove “Forms N-71 and associated forms” and add in its place “IAEA Design Information Questionnaire forms”.

§ 40.31 [Amended]

24. In § 40.31(g)(1), remove “Form N-71 and associated forms” and add in its place “IAEA Design Information Questionnaire forms”.

25. In § 40.60, revise the first sentence of paragraph (c)(1) introductory text to read as follows:

§ 40.60 Reporting requirements.

* * * * *

(c) * * *

(1) Licensees shall make reports required by paragraphs (a) and (b) of this section by telephone to the NRC Headquarters Operations Center at the numbers specified in appendix A to part 73 of this chapter. * * *

* * * * *

26. In § 40.67, revise paragraphs (c) and (d) to read as follows:

§ 40.67 Requirement for advance notice for importation of natural uranium from countries that are not party to the Convention on the Physical Protection of Nuclear Material.

* * * * *

(c) The licensee shall notify the Director, Office of Nuclear Security and Incident Response, by telephone at the numbers for the NRC Headquarters Operations Center specified in appendix A to part 73 of this chapter when the shipment is received in the receiving facility.

(d) A licensee who needs to amend a notification shall notify the Director, Office of Nuclear Security and Incident Response, by telephone at the numbers specified for the NRC Headquarters Operations Center in appendix A to part 73 of this chapter.

PART 50—DOMESTIC LICENSING OF PRODUCTION AND UTILIZATION FACILITIES

27. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

§ 50.8 [Amended]

28. In § 50.8(c)(2), remove “Form N-71 and associated forms” and add in its place “IAEA Design Information Questionnaire forms”.

29. In § 50.55a:

a. In paragraph (b)(1)(x)(B), revise the paragraph heading;

b. In paragraph (b)(2)(ix) introductory text, remove the reference “(b)(2)(ix)(A)(2)” wherever it appears and add in its place the reference “(b)(2)(ix)(A)(2)”;

c. In paragraph (b)(2)(ix)(K), remove “Table IWE 2411-1” and add in its place “Table IWE-2411-1” and remove “IWE 2430” and add in its place “IWE-2430”;

d. In paragraph (b)(2)(xxxviii) introductory text and paragraphs (b)(2)(xxxviii)(A) and (B), revise the paragraph headings;

e. In paragraph (b)(2)(xxxix)(A), remove “IWA 4421(c)(1)” and add in its place “IWA-4421(c)(1)”; and

f. In paragraph (b)(3)(iv) introductory text, revise the first sentence.

The revisions read as follows:

§ 50.55a Codes and standards.

* * * * *

(b) * * *

(1) * * *

(x) * * *

(B) Visual examination of bolts, studs, and nuts: Second provision. * * *

* * * * *

(2) * * *

(xxxviii) Section XI condition: ASME Code Section XI Appendix III Supplement 2.

* * * * *

(A) ASME Code Section XI Appendix III Supplement 2: First provision.

* * *

(B) ASME Code Section XI Appendix III Supplement 2: Second provision. * * *

* * * * *

(3) * * *

(iv) * * * Appendix II of the ASME OM Code, 2003 Addenda through the 2015 Edition, is acceptable for use with the following requirements. * * *

* * * * *

30. In § 50.72, revise paragraph (a)(2) and redesignate footnotes 4 and 5 as footnotes 3 and 4.

The revision to read as follows:

§ 50.72 Immediate notification requirements for operating nuclear power reactors.

(a) * * *

(2) If the Emergency Notification System is inoperative, the licensee shall make the required notifications via commercial telephone service, other dedicated telephone system, or any other method which will ensure that a report is made as soon as practical to the NRC Headquarters Operations Center at the numbers specified in appendix A to part 73 of this chapter.

* * * * *

§ 50.78 [Amended]

31. In § 50.78(a), remove “Form N-71, and associated forms” and add in its place “IAEA Design Information Questionnaire forms”.

Appendix R to Part 50 [Amended]

32. In paragraph III.L.1 of appendix R to part 50, remove “of rupture of the containment boundary” and add in its place “or rupture of the containment boundary”.

PART 51—ENVIRONMENTAL PROTECTION REGULATIONS FOR DOMESTIC LICENSING AND RELATED REGULATORY FUNCTIONS

33. The authority citation for part 51 continues to read as follows:

Authority: Atomic Energy Act of 1954, secs. 161, 193 (42 U.S.C. 2201, 2243); Energy Reorganization Act of 1974, secs. 201, 202 (42 U.S.C. 5841, 5842); National Environmental Policy Act of 1969 (42 U.S.C. 4332, 4334, 4335); Nuclear Waste Policy Act of 1982, secs. 144(f), 121, 135, 141, 148 (42 U.S.C. 10134(f), 10141, 10155, 10161, 10168); 44 U.S.C. 3504 note.

Sections 51.20, 51.30, 51.60, 51.80, and 51.97 also issued under Nuclear Waste Policy Act secs. 135, 141, 148 (42 U.S.C. 10155, 10161, 10168).

Section 51.22 also issued under Atomic Energy Act sec. 274 (42 U.S.C. 2021) and under Nuclear Waste Policy Act sec. 121 (42 U.S.C. 10141).

Sections 51.43, 51.67, and 51.109 also issued under Nuclear Waste Policy Act sec. 114(f) (42 U.S.C. 10134(f)).

§ 51.22 [Amended]

34. In § 51.22(c)(14)(xvi), remove the parenthetical “(Category 14)”.

PART 52—LICENSES, CERTIFICATIONS, AND APPROVALS FOR NUCLEAR POWER PLANTS

35. The authority citation for part 52 continues to read as follows:

Authority: Atomic Energy Act of 1954, secs. 103, 104, 147, 149, 161, 181, 182, 183, 185, 186, 189, 223, 234 (42 U.S.C. 2133, 2134, 2167, 2169, 2201, 2231, 2232, 2233, 2235, 2236, 2239, 2273, 2282); Energy Reorganization Act of 1974, secs. 201, 202, 206, 211 (42 U.S.C. 5841, 5842, 5846, 5851); 44 U.S.C. 3504 note.

§ 52.29 [Amended]

36. In § 52.29(c), remove the reference to “§ 52.27(b)” and add in its place “§ 52.26(b)”.

§ 52.39 [Amended]

37. In § 52.39(a)(1), remove the reference to “§§ 52.27” and add in its place “§§ 52.26”.

§ 52.303 [Amended]

38. In § 52.303(b), remove the reference to “52.27” and add in its place “52.26”.

PART 60—DISPOSAL OF HIGH-LEVEL RADIOACTIVE WASTES IN GEOLOGIC REPOSITORIES

39. The authority citation for part 60 continues to read as follows:

Authority: Authority: Atomic Energy Act of 1954, secs. 51, 53, 62, 63, 65, 81, 161, 182, 183, 223, 234 (42 U.S.C. 2071, 2073, 2092, 2093, 2095, 2111, 2201, 2232, 2233, 2273, 2282); Energy Reorganization Act of 1974, secs. 201, 202, 206, 211 (42 U.S.C. 5841, 5842, 5846, 5851); 42 U.S.C. 2021a; National Environmental Policy Act of 1969 (42 U.S.C. 4332); Nuclear Waste Policy Act of 1982, secs. 114, 117, 121 (42 U.S.C. 10134, 10137, 10141), 44 U.S.C. 3504 note.

§ 60.8 [Amended]

40. In § 60.8(c), remove “Forms N-71 and associated forms” and add in its place “IAEA Design Information Questionnaire forms”.

§ 60.47 [Amended]

41. In § 60.47(a), remove “Form N-71 and associated forms” and add in its place “IAEA Design Information Questionnaire forms”.

PART 61—LICENSING REQUIREMENTS FOR LAND DISPOSAL OF RADIOACTIVE WASTE

42. The authority citation for part 61 continues to read as follows:

Authority: Atomic Energy Act of 1954, secs. 53, 57, 62, 63, 65, 81, 161, 181, 182, 183, 223, 234 (42 U.S.C. 2073, 2077, 2092, 2093, 2095, 2111, 2201, 2231, 2232, 2233, 2273, 2282); Energy Reorganization Act of 1974, secs. 201, 206, 211 (42 U.S.C. 5841, 5846, 5851); Low-Level Radioactive Waste Policy Amendments Act of 1985, sec. 2 (42 U.S.C. 2021b); 44 U.S.C. 3504 note.

§ 61.8 [Amended]

43. In § 61.8(c), remove “Form N-71 and associated forms” and add in its place “IAEA Design Information Questionnaire forms”.

§ 61.32 [Amended]

44. In § 61.32(a), remove “Form N-71 and associated forms” and add in its place “IAEA Design Information Questionnaire forms”.

PART 62—CRITERIA AND PROCEDURES FOR EMERGENCY ACCESS TO NON-FEDERAL AND REGIONAL LOW-LEVEL WASTE DISPOSAL FACILITIES

45. The authority citation for part 62 continues to read as follows:

Authority: Atomic Energy Act of 1954, sec. 161 (42 U.S.C. 2201); Energy Reorganization Act of 1974, secs. 201 (42 U.S.C. 5841); Low-Level Radioactive Waste Policy Amendments Act of 1985, secs. 2, 6 (42 U.S.C. 2021b, 2021f); 44 U.S.C. 3504 note.

§ 62.8 [Amended]

46. In § 62.8(b), add “62.5,” in numerical order.

PART 63—DISPOSAL OF HIGH-LEVEL RADIOACTIVE WASTES IN A GEOLOGIC REPOSITORY AT YUCCA MOUNTAIN, NEVADA

47. The authority citation for part 63 continues to read as follows:

Authority: Atomic Energy Act of 1954, secs. 51, 53, 62, 63, 65, 81, 161, 182, 183, 223, 234 (42 U.S.C. 2071, 2073, 2092, 2093, 2095, 2111, 2201, 2232, 2233, 2273, 2282); Energy Reorganization Act of 1974, secs. 201, 202, 206, 211 (42 U.S.C. 5841, 5842, 5846, 5851); 42 U.S.C. 2021a; National Environmental Policy Act of 1969 (42 U.S.C. 4332); Nuclear Waste Policy Act of 1982, secs. 114, 117, 121 (42 U.S.C. 10134, 10137, 10141); 44 U.S.C. 3504 note.

§ 63.8 [Amended]

48. In § 63.8, in paragraph (b) add “63.6,” in numerical order, and in paragraph (c) remove “Form N-71 and associated forms” and add in its place “IAEA Design Information Questionnaire forms”.

§ 63.47 [Amended]

49. In § 63.47(a), remove “Form N-71 and associated forms” and add in its place “IAEA Design Information Questionnaire forms”.

PART 70—DOMESTIC LICENSING OF SPECIAL NUCLEAR MATERIAL

50. The authority citation for part 70 continues to read as follows:

Authority: Atomic Energy Act of 1954, secs. 51, 53, 57(d), 108, 122, 161, 182, 183, 184, 186, 187, 193, 223, 234, 274, 1701 (42 U.S.C. 2071, 2073, 2077(d), 2138, 2152, 2201, 2232, 2233, 2234, 2236, 2237, 2243, 2273, 2282, 2021, 2297f); Energy Reorganization Act of 1974, secs. 201, 202, 206, 211 (42 U.S.C. 5841, 5842, 5846, 5851); Nuclear Waste Policy Act of 1982, secs. 135, 141 (42 U.S.C. 10155, 10161); 44 U.S.C. 3504 note.

§ 70.8 [Amended]

51. In § 70.8(c)(1), remove “Form N-71 and associated forms” and add in its place “IAEA Design Information Questionnaire forms”.

§ 70.21 [Amended]

52. In § 70.21(g)(1), remove “Form N-71 and associated forms” and add in its place “IAEA Design Information Questionnaire forms”.

53. In § 70.50, revise the first sentence of paragraph (c)(1) introductory text to read as follows:

§ 70.50 Reporting requirements.

* * * * *

(c) * * *

(1) Licensees shall make reports required by paragraphs (a) and (b) of this section, and by § 70.74 and appendix A of this part, if applicable, by telephone to the NRC Headquarters Operations Center at the numbers specified in appendix A to part 73 of this chapter. * * *

* * * * *

54. In § 70.52, revise paragraph (a) to read as follows:

§ 70.52 Reports of accidental criticality.

(a) Each licensee shall notify the NRC Headquarters Operations Center by telephone at the numbers specified in appendix A to part 73 of this chapter within 1 hour after discovery of any case of accidental criticality.

* * * * *

PART 71—PACKAGING AND TRANSPORTATION OF RADIOACTIVE MATERIAL

55. The authority citation for part 71 continues to read as follows:

Authority: Atomic Energy Act of 1954, secs. 53, 57, 62, 63, 81, 161, 182, 183, 223, 234, 1701 (42 U.S.C. 2073, 2077, 2092, 2093, 2111, 2201, 2232, 2233, 2273, 2282, 2297f); Energy Reorganization Act of 1974, secs. 201, 202, 206, 211 (42 U.S.C. 5841, 5842, 5846, 5851); Nuclear Waste Policy Act of 1982, sec. 180 (42 U.S.C. 10175); 44 U.S.C. 3504 note.

Section 71.97 also issued under Sec. 301, Pub. L. 96-295, 94 Stat. 789 (42 U.S.C. 5841 note).

§ 71.97 [Amended]

56. In § 71.97, remove and reserve paragraph (c)(3)(i).

Appendix A to Part 71 [Amended]

57. In Appendix A to part 71, in Table A-1, amend the entry radionuclide Sm-147, by removing “8.5 × 10⁻¹” and adding in its place “8.5 × 10⁻¹⁰”.

PART 72—LICENSING REQUIREMENTS FOR THE INDEPENDENT STORAGE OF SPENT NUCLEAR FUEL, HIGH-LEVEL RADIOACTIVE WASTE, AND REACTOR-RELATED GREATER THAN CLASS C WASTE

58. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

§ 72.9 [Amended]

59. In § 72.9(c), remove “Form N-71 and associated forms” and add in its place “IAEA Design Information Questionnaire forms”.

§ 72.32 [Amended]

60. In § 72.32, redesignate footnotes 10 and 11 as footnotes 1 and 2.

61. In § 72.74, revise paragraph (a) to read as follows:

§ 72.74 Reports of accidental criticality or loss of special nuclear material.

(a) Each licensee shall notify the NRC Headquarters Operations Center by telephone at the numbers specified in appendix A to part 73 of this chapter within 1 hour of discovery of accidental criticality or any loss of special nuclear material.

* * * * *

62. In § 72.75, revise paragraph (e)(1) to read as follows:

§ 72.75 Reporting requirements for specific events and conditions.

* * * * *

(e) * * *

(1) Licensees shall make reports required by paragraphs (a), (b), (c), or (d) of this section by telephone to the NRC Headquarters Operations Center at the numbers specified in appendix A to part 73 of this chapter.¹

¹ Those licensees with an available Emergency Notification System (ENS) shall use the ENS to notify the NRC Headquarters Operations Center.

* * * * *

§ 72.79 [Amended]

63. In § 72.79(a), remove “Form N-71 and associated forms” and add in its place “IAEA Design Information Questionnaire forms”.

PART 73—PHYSICAL PROTECTION OF PLANTS AND MATERIALS

64. The authority citation for part 73 continues to read as follows:

Authority: Atomic Energy Act of 1954, secs. 53, 147, 149, 161, 170D, 170E, 170H, 170I, 223, 229, 234, 1701 (42 U.S.C. 2073, 2167, 2169, 2201, 2210d, 2210e, 2210h, 2210i, 2273, 2278a, 2282, 2297f); Energy Reorganization Act of 1974, secs. 201, 202 (42 U.S.C. 5841, 5842); Nuclear Waste Policy Act of 1982, secs. 135, 141 (42 U.S.C. 10155, 10161); 44 U.S.C. 3504 note.

Section 73.1 also issued under Nuclear Waste Policy Act secs. 135, 141 (42 U.S.C. 10155, 10161).

Section 73.37(b)(2) also issued under Sec. 301, Public Law 96-295, 94 Stat. 789 (42 U.S.C. 5841 note).

Section 73.37(f) also issued under Sec. 301, Pub. L. 96-295, 94 Stat. 789 (42 U.S.C. 5841 note).

§ 73.57 [Amended]

65. Amend 73.57:

a. In paragraph (b)(2)(iii), remove “Executive Order 10450” and add in its place “Executive Order 13767, as amended by Executive Order 13764,”.

b. In paragraph (d)(1), wherever it appears, remove “Division of Facilities and Security” and add in its place “Division of Physical and Cyber Security Policy” and remove “TWB 05B32M” and add in its place “T-8B20”.

66. In § 73.67, revise paragraphs (e)(3)(vii) and (g)(3)(iii) to read as follows:

§ 73.67 Licensee fixed site and in-transit requirements for the physical protection of special nuclear material of moderate and low strategic significance.

* * * * *

(e) * * *

(3) * * *

(vii) Notify the NRC Headquarters Operations Center by telephone at the numbers specified in appendix A to this part within one hour after the discovery of the loss of the shipment and within one hour after recovery of or accounting for such lost shipment in accordance with the provisions of § 73.71 of this part.

* * * * *

(g) * * *

(3) * * *

(iii) Conduct immediately a trace investigation of any shipment that is lost or unaccounted for after the estimated arrival time and notify the NRC Headquarters Operations Center by telephone at the numbers specified in appendix A to this part within 1 hour after the discovery of the loss of the shipment and within 1 hour after recovery of or accounting for such lost shipment in accordance with the provisions of § 73.71 of this part.

* * * * *

67. In § 73.71, revise paragraphs (a)(1) and (b)(1) to read as follows:

§ 73.71 Reporting of safeguards events.

(a)(1) Each licensee subject to the provisions of § 73.25, § 73.26, § 73.27(c), § 73.37, § 73.67(e), or § 73.67(g) shall notify the NRC Headquarters Operations Center by telephone within 1 hour after discovery of the loss of any shipment of SNM or spent fuel, and within 1 hour after recovery of or accounting for such lost shipment. Contact numbers for the NRC Headquarters Operations Center are found in appendix A to this part.

* * * * *

(b)(1) Each licensee subject to the provisions of § 73.20, § 73.37, § 73.50, § 73.51, § 73.55, § 73.60, or § 73.67 shall notify the NRC Headquarters Operations Center by telephone within 1 hour of discovery of the safeguards events described in paragraph I (a)(1) of appendix G to this part. Licensees subject to the provisions of § 73.20, § 73.37, § 73.50, § 73.51, § 73.55, § 73.60, or each licensee possessing strategic special nuclear material and subject to § 73.67(d) shall notify the NRC Headquarters Operations Center within 1 hour after discovery of the safeguards events described in paragraphs I (a)(2), (a)(3), (b), and (c) of appendix G to this part. Licensees subject to the provisions of § 73.20, § 73.37, § 73.50, § 73.51, § 73.55, or § 73.60 shall notify the NRC Headquarters Operations Center within 1 hour after discovery of the safeguards events described in paragraph I (d) of appendix G to this part. Contact numbers for the NRC Headquarters Operations Center are found in appendix A to this part.

* * * * *

§ 73.72 [Amended]

68. In § 73.72, redesignate footnote 4 as footnote 1.

PART 74—MATERIAL CONTROL AND ACCOUNTING OF SPECIAL NUCLEAR MATERIAL

69. The authority citation for part 74 continues to read as follows:

Authority: Atomic Energy Act of 1954, secs. 53, 57, 161, 182, 223, 234, 1701 (42 U.S.C. 2073, 2077, 2201, 2232, 2273, 2282, 2297f); Energy Reorganization Act of 1974, secs. 201, 202 (42 U.S.C. 5841, 5842); 44 U.S.C. 3504 note.

§ 74.8 [Amended]

70. In § 74.8(b), add “74.7,” in numerical order.

PART 75—SAFEGUARDS ON NUCLEAR MATERIAL—IMPLEMENTATION OF SAFEGUARDS AGREEMENTS BETWEEN THE UNITED STATES AND THE INTERNATIONAL ATOMIC ENERGY AGENCY

71. The authority citation for part 75 continues to read as follows:

Authority: Atomic Energy Act of 1954, secs. 53, 63, 103, 104, 122, 161, 223, 234, 1701 (42 U.S.C. 2073, 2093, 2133, 2134, 2152, 2201, 2273, 2282, 2297f); Energy Reorganization Act of 1974, sec. 201 (42 U.S.C. 5841); Nuclear Waste Policy Act of 1982, secs. 135, 141 (42 U.S.C. 10155, 10161); 44 U.S.C. 3504 note.

§ 75.6 [Amended]

72. In § 75.6, in paragraph (c), in the table, remove “Form N-71 and associated forms” and add in its place “IAEA Design Information Questionnaire forms” and in paragraphs (c) and (e), in the tables, remove “(commercial telephone number 301-816-5100)” and add in its place “by telephone at the numbers specified in appendix A to part 73 of this chapter”.

§ 75.9 [Amended]

73. In § 75.9, in paragraph (b), add in numerical order “75.3,” and in paragraph (c)(1), remove “Form N-71 and associated forms” and add in its place “IAEA Design Information Questionnaire forms”.

74. In § 75.10, revise the introductory text of paragraph (d) to read as follows:

§ 75.10 Facilities.

* * * * *

(d) The information specified in paragraphs (b) and (c) of this section, except for the information specified in paragraph (b)(5) of this section, must be prepared on IAEA Design Information Questionnaire forms or other forms supplied by the NRC. The information must be sufficiently detailed to enable knowledgeable determinations to be made in the development of Facility Attachments or amendments thereto, including:

* * * * *

PART 76—CERTIFICATION OF GASEOUS DIFFUSION PLANTS

75. The authority citation for part 76 continues to read as follows:

Authority: Atomic Energy Act of 1954, secs. 122, 161, 193(f), 223, 234, 1701 (42 U.S.C. 2152, 2201, 2243(f), 2273, 2282, 2297f); Energy Reorganization Act of 1974, secs. 201, 206, 211 (42 U.S.C. 5841, 5846, 5851); 44 U.S.C. 3504 note.

§ 76.35 [Amended]

76. In § 76.35(l)(1), remove “Form N-71 and associated forms” and add in its place “IAEA Design Information Questionnaire forms”.

§ 76.111 [Amended]

77. In § 76.111, redesignate footnote 2 as footnote 1.

78. In § 76.120, revise paragraph (a) introductory text and in paragraph (b), redesignate footnote 4 as footnote 1 to read as follows:

§ 76.120 Reporting requirements.

(a) Immediate report. The Corporation shall notify the NRC Headquarters Operations Center by telephone at the numbers specified in appendix A to part 73 of this chapter within 1 hour after discovery of:

* * * * *

PART 110—EXPORT AND IMPORT OF NUCLEAR EQUIPMENT AND MATERIAL

79. The authority citation for part 110 continues to read as follows:

Authority: Atomic Energy Act of 1954, secs. 11, 51, 53, 54, 57, 62, 63, 64, 65, 81, 82, 103, 104, 109, 111, 121, 122, 123, 124, 126, 127, 128, 129, 133, 134, 161, 170H, 181, 182, 183, 184, 186, 187, 189, 223, 234 (42 U.S.C. 2014, 2071, 2073, 2074, 2077, 2092, 2093, 2094, 2095, 2111, 2112, 2133, 2134, 2139, 2141, 2151, 2152, 2153, 2154, 2155, 2156, 2157, 2158, 2160c, 2160d, 2201, 2210h, 2231, 2232, 2233, 2234, 2236, 2237, 2239, 2273, 2282); Energy Reorganization Act of 1974, sec. 201 (42 U.S.C. 5841); Administrative Procedure Act (5 U.S.C. 552, 553); 42 U.S.C. 2139a, 2155a; 44 U.S.C. 3504 note.

§ 110.7 [Amended]

80. In § 110.7(b), add “110.10,” in numerical order.

81. In § 110.50 revise paragraph (c)(2) to read as follows:

§ 110.50 Terms.

* * * * *

(c) * * *

(2) The NRC's office responsible for receiving advance notifications for all export and import shipments is the NRC Headquarters Operations Center. Notifications to the NRC Headquarters Operations Center are to be submitted by email (preferred method) or faxed using the contact information specified in appendix A to 10 CFR part 73 of this chapter. In the subject line of the email or on the fax cover page include “10 CFR 110.50(c) Notification.” To contact the NRC Operations Center, use the same email address or call the telephone number in appendix A to 10 CFR part 73. For questions or concerns on submitting these advance notifications to the NRC, please contact the Office of International Programs at 301-287-9056.

* * * * *

PART 140—FINANCIAL PROTECTION REQUIREMENTS AND INDEMNITY AGREEMENTS

82. The authority citation for part 140 continues to read as follows:

Authority: Atomic Energy Act of 1954, secs. 161, 170, 223, 234 (42 U.S.C. 2201, 2210, 2273, 2282); Energy Reorganization Act of 1974, secs. 201, 202 (42 U.S.C. 5841, 5842); 44 U.S.C. 3504 note.

§ 140.9a [Amended]

83. In § 140.9a(b), add “140.8,” in numerical order.

Dated: September 21, 2020.
For the Nuclear Regulatory Commission.
Cindy K. Bladey,
Chief, Regulatory Analysis and Rulemaking Support Branch, Division of Rulemaking, Environmental, and Financial Support, Office of Nuclear Material Safety and Safeguards.

[FR Doc. 2020-21148 Filed 10-15-20; 8:45 am]

BILLING CODE 7590-01-P